DEPARTMENT OF JUSTICE

[OMB Number 1140-0028]

Agency Information Collection Activities; Proposed eCollection eComments Requested; Extension of a Previously Approved Collection; Inventories: Licensed Explosives Importers, Manufacturers, Dealers and Permittees

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until August 11, 2023.

FOR FURTHER INFORMATION CONTACT: If you have additional comments especially on the estimated public burden or associated response time, suggestions, or need a copy of the proposed information collection instrument with instructions or additional information, please contact: Michael O'Lena, Chief, Explosives Industry Programs Branch, by mail at 99 New York Avenue NE, Room 6.N. 518, Washington, DC 20226, email at eipb-informationcollection@atf.gov, or telephone at 202-648-7120.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This collection of information is authorized by 18 U.S.C. 40, Importation of Manufacture Distribution and Storage of Explosives. These records show the explosive material inventories of those persons engaged in various activities within the explosives industry and are used by the government as initial figures from which an audit trail can be developed during the course of a compliance inspection or criminal investigation.

Overview of This Information Collection

1. Type of Information Collection: Extension of a previously approved collection.

2. The Title of the Form/Collection: Inventories: Licensed Explosives Importers, Manufacturers, Dealers and Permittees.

3. The agency form number, if any, and the applicable component of the Department sponsoring the collection: There is no form number associated with this collection. The sponsoring business component is the Bureau of Alcohol, Tobacco, Firearms and Explosives, U.S. Department of Justice.

4. Affected public who will be asked or required to respond, as well as the obligation to respond: The affected public is Private Sector—businesses or other for-profit institutions. The obligation to respond is mandatory per 27 CFR 555.122.

5. An estimate of the total number of respondents and the amount of time estimated for an average respondent to respond: An estimated 9,219 respondents will respond to this collection annually, and it will take each respondent approximately 2 hours to complete their responses.

6. An estimate of the total annual burden (in hours) associated with the collection: The estimated annual public burden associated with this collection is 18,438 hours.

7. An estimate of the total annual cost burden associated with the collection, if applicable: $0.

Total Burden Hours
Activity | Number of respondents | Frequency | Total annual responses | Time per response (hours) | Total annual burden (hours)
Inventories | 9.219 | 1/annually | 9,219 | 2 | 18,438
Unduplicated Totals | 9,219 |  | 9,219 |  | 18,438

If additional information is required contact: John R. Carlson, Department Clearance Officer, United States Department of Justice, Justice Management Division, Policy and Planning Staff, Two Constitution Square, 145 N Street NE, 4W-218, Washington, DC.

Dated: June 5, 2023.
John Carlson,
Department Clearance Officer for PRA, U.S. Department of Justice.

[FR Doc. 2023-12400 Filed 6-9-23; 8:45 am]

BILLING CODE 4410-FY-P